NUCLEAR REGULATORY COMMISSION

[NRC-2018-0131]

Monitoring the Effectiveness of Maintenance at Nuclear Power Plants

AGENCY: Nuclear Regulatory Commission.

ACTION: Draft regulatory guide; request for comment.

SUMMARY: The U.S. Nuclear Regulatory Commission (NRC) is issuing for public comment draft regulatory guide (DG), DG-1336, “Monitoring the Effectiveness of Maintenance at Nuclear Power Plants.” This proposed guide, Revision 4, has been revised to addresses new issues identified since Revision 3 of RG 1.160 was issued and endorses with clarification NUMARC 93-01, “Industry Guidelines for Monitoring the Effectiveness of Maintenance at Nuclear Power Plants,” Revision 4F. The proposed revision describes methods that are acceptable to the NRC staff for compliance with the requirements for monitoring the effectiveness of maintenance at nuclear power plants.

DATES: Submit comments by July 30, 2018. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Website: Go to http://www.regulations.gov and search for Docket ID NRC-2018-0131. Address questions about NRC dockets to Jennifer Borges; telephone: 301-287-9127; email: Jennifer.Borges@nrc.gov. For technical questions, contact the individuals listed in the FOR FURTHER INFORMATION CONTACT section of this document.

• Mail comments to: May Ma, Office of Administration, Mail Stop: TWFN-7A60, U.S. Nuclear Regulatory Commission, Washington, DC 20555-0001.

For additional direction on obtaining information and submitting comments, see “Obtaining Information and Submitting Comments” in the SUPPLEMENTARY INFORMATION section of this document.

FOR FURTHER INFORMATION CONTACT: Ami Agrawal, Office of Nuclear Reactor Regulation, telephone: 301-415-8310, email: Ami.Agrawal@nrc.gov; and Stephen Burton, Office of Nuclear Regulatory Research, telephone: 301-415-7000, email: Stephen.Burton@nrc.gov. Both are staff of the U.S. Nuclear Regulatory Commission, Washington, DC 20555-0001.

SUPPLEMENTARY INFORMATION:

I. Obtaining Information and Submitting Comments

A. Obtaining Information

Please refer to Docket ID NRC-2018-0131 when contacting the NRC about the availability of information regarding this action. You may obtain publically-available information related to this action, by any of the following methods:

• Federal Rulemaking website: Go to http://www.regulations.gov and search for Docket ID NRC-2018-0131.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DG-1336 is available in ADAMS under Accession No. ML18129A080.

• NRC's PDR: You may examine and purchase copies of public documents at the NRC's PDR, Room O1-F21, One White Flint North, 11555 Rockville Pike, Rockville, Maryland 20852.

B. Submitting Comments

Please include Docket ID NRC-2018-0131 in your comment submission.

The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The Maintenance Rule (Part 50.65 of title 10 of the Code of Federal Regulations (10 CFR)) requires each holder of an operating license for a nuclear power plant under 10 CFR part 50 and each holder of a combined license under 10 CFR part 52 (after the Commission makes certain findings) to monitor the performance or condition of structures, systems, or components, against licensee-established goals, in a manner sufficient to provide reasonable assurance that in-scope structures, systems, and components intended functions. The Maintenance Rule also applies to nuclear power plant for which the licensee has submitted the certifications that it has ceased operating permanently, but limited to structures, systems, or components associated with the storage, control, and maintenance of spent fuel in a safe condition, in a manner sufficient to provide reasonable assurance that these structures, systems, and components are capable of fulfilling their intended functions. Last, an application for a combined license shall contain a final safety analysis report that provides a description of the program, and its implementation, for monitoring the effectiveness of maintenance necessary to meet the requirements of 10 CFR 50.65.

The Nuclear Energy Institute (NEI) is submit revision 4F of NUMARC 93-01, “Industry Guideline for Monitoring the Effectiveness of Maintenance at Nuclear Power Plants” for endorsement. NEI explained that NUMARC 93-01 was developed to establish an acceptable approach for licensees to meet the Maintenance Rule. Revision 4F of NUMARC 93-01 addresses the application of the Maintenance Rule to the use of diverse and flexible coping strategies (FLEX) support guidelines (FSGs) in plant emergency operating procedures (EOPs), as well as some other minor wording changes.

The DG, entitled, “Monitoring the Effectiveness of Maintenance at Nuclear Power Plants,” is a proposed revision temporarily identified by its task number, DG-1336. DG-1336 is proposed revision 4 of RG 1.160, “Monitoring the Effectiveness of Maintenance at Nuclear Power Plants.” The NRC's proposed revision to RG 1.160 would endorse with clarification NUMARC 93-01 Revision 4F. The NRC finds that endorsement would be beneficial in that the agency positions with respect to FLEX equipment, the Maintenance Rule, and Revision 4F of NUMARC 93-01 would be readily understood.

III. Backfitting and Issue Finality

This DG describes methods acceptable to the staff of the NRC for demonstrating compliance with the provisions of 10 CFR 50.65, “Requirements for Monitoring the Effectiveness of Maintenance at Nuclear Power Plants,” of 10 CFR part 50, “Domestic Licensing of Production and Utilization Facilities.” As discussed in Section D. “Implementation” of this DG, the NRC does not intend to impose this guide, if finalized, on applicants for, or holders of, licenses.

This DG may be applied to applications for combined licenses under 10 CFR part 52 docketed by the NRC as of the date of issuance of the final regulatory guide, as well as future applications submitted after the issuance of the regulatory guide. Such action would not constitute backfitting as defined in the 10 CFR 50.109 or be otherwise inconsistent with the applicable issue finality provision in 10 CFR part 52, inasmuch as such applicants or potential applicants, with certain exceptions, are not within the scope of entities that are the subject of the Backfit Rule or an issue finality provision in 10 CFR part 52. However, the scope of backfitting and issue finality extends only to the matters resolved in the license or regulatory approval. The matters addressed in this DG (concerning monitoring the effectiveness of maintenance at nuclear power plants) has not previously been proposed to be for a construction permit, design certification rule, or standard design approval. Therefore, the extent to which an applicant can rely on a backfitting or issue finality provision is limited to the extent that the applicant has addressed the matters in this regulatory guide during the review and approval of the construction permit, design certification rule, or standard design approval.

Dated at Rockville, Maryland, this 22nd day of June, 2018.
For the Nuclear Regulatory Commission.
Edward O'Donnell,
Acting Chief, Regulatory Guidance and Generic Issues Branch, Division of Engineering, Office of Nuclear Regulatory Research.

[FR Doc. 2018-13876 Filed 6-27-18; 8:45 am]

BILLING CODE 7590-01-P